FEDERAL HOUSING FINANCE BOARD

Sunshine Act Meeting; Charge of Meeting Time

Federal Register Citation of Previous Notice: 65 FR 54533, September 8, 2000.

Previously Announced Time and Date of the Meeting: 3:00 P.M., Tuesday, September 19, 2000.

Change in the Meeting: The time of the above mention meeting is changed to 2:00 p.m., Tuesday, September 19, 2000 at the Federal Housing Finance Board, 1777 F Street, NW., Washington, DC 20006.

CONTACT PERSON FOR MORE INFORMATION: Elaine L. Baker, Secretary to the Board, (202) 408-2837.

James L. Bothwell,
Managing Director.

[FR Doc. 00-23914 Filed 9-13-00; 2:06 pm]

BILLING CODE 6725-01-P